DEPARTMENT OF TRANSPORTATION

Federal Aviation Administration

FAA (Aircraft Certification Service) “Meet the Regulators” Information Sharing and Listening Session

AGENCY: Federal Aviation Administration (FAA), DOT.

ACTION: Notice of meeting.

SUMMARY: This notice announces a meeting to discuss various FAA rotorcraft safety initiatives and to gather any relevant information that will help to reduce general aviation rotorcraft accidents.

DATES: The meeting will be on February 26, 2008, 10 a.m.-12 noon CST.

ADDRESSES: The meeting is in conjunction with Heli-Expo at the George Brown Convention Center, Room 350 (A, B, D, and E), 1001 Avendia de las Americas, Houston, Texas.

FOR FURTHER INFORMATION CONTACT: Jorge Castillo, Safety Management Group, ASW-112, 2601 Meacham Boulevard, Fort Worth, TX 76137, telephone (817) 222-5112, or by e-mail at Jorge.R.Castillo@faa.gov.

SUPPLEMENTARY INFORMATION: The meeting is announced pursuant to 49 U.S.C. 40113 and 49 U.S.C. 44701 to take actions the FAA considers necessary in order to enhance safety in air commerce and the DOT policies and procedures to seek public participation in that process.

This meeting is part of the Rotorcraft Directorate's initiative and supports one of the top safety objectives of the FAA Flight Plan to reduce the number of fatal accidents in general aviation. At this meeting, we will brief attendees on some of the FAA's initiatives intended to reduce rotorcraft accidents, including rotorcraft accident prevention outreach programs and the use of Night Vision Imaging Systems (NVIS). You will have an opportunity to propose safety-enhancing recommendations and to recommend how the FAA should implement strategies that will help reduce rotorcraft accidents. Attendance is open to all interested persons, but will be limited to the space available.

Issued in Fort Worth, Texas, on January 15, 2008.
David A. Downey,
Manager, Rotorcraft Directorate, Aircraft Certification Service.

[FR Doc. E8-1227 Filed 1-23-08; 8:45 am]

BILLING CODE 4910-13-P s